DEPARTMENT OF TRANSPORTATION

Federal Aviation Administration

[Docket No. FAA-2025-0800]

Agency Information Collection Activities: Requests for Comments; Clearance of Renewed Approval of Information Collection: Unmanned Aircraft Systems (UAS) Support Center Case Management System (CMS)

AGENCY: Federal Aviation Administration (FAA), DOT.

ACTION: Notice and request for comments.

SUMMARY: In accordance with the Paperwork Reduction Act of 1995, FAA invites public comments about our intention to request the Office of Management and Budget (OMB) approval for a renewal of an information collection. The collection involves a public form on the faa.gov website to streamline how stakeholders' questions are answered in a timely manner. Specifically, the Contact Customer Support form allows the public and other stakeholders to ask the FAA questions, as well as get the appropriate answer or information they need to operate their UAS or drone safely. The information to be collected will be used to and/or is necessary because it allows the UAS Integration Office to collect the appropriate information about the stakeholder's name, preferred method of communications email address, phone number, zip code, type of flyer that would allow the Support Center Analysts to more efficiently answer the customer's specific question.

DATES: Written comments should be submitted by August 1, 2025.

ADDRESSES: Please send written comments:

By Electronic Docket: www.regulations.gov (Enter docket number into search field).

By mail: Jose Skinner, Federal Aviation Administration UAS Integration Office, 950 L'Enfant Plaza SW, Suite 500, Washington, DC 20024.

FOR FURTHER INFORMATION CONTACT: Jose Skinner by email at: Jose.Skinner@faa.gov; phone: 817-222-5283.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0810.

Title: Unmanned Aircraft Systems (UAS) Support Center Case Management System (CMS).

Form Numbers: Customer Inquiry form; Customer Inquiry Status Check Form.

Type of Review: This is a renewal of an information collection.

Background: Unmanned Aircraft Systems (UAS) Support Center Case Management System (CMS) streamlines how respondents' questions are answered. Specifically, the UAS Support Center CMS Customer Inquiry form allows the public and other stakeholders to ask the FAA questions, as well as get the appropriate answer/information that is needed to operate their UAS or drone safely. The UAS Support Center has a publicly available form to submit inquiries. This form allows the UAS Support Center to collect the appropriate information about the respondent's name (i.e., first and last), preferred method of communications (i.e., email or phone), email address, phone number, zip code (if needed), self-identification of type of flyer (i.e., recreational, commercial/business, public safety, local government, educational/research, Eyewitness Report, I don't know, and other), the subject of the inquiry, and inquiry/question). This information allows the UAS Support Center Analysts more information to efficiently answer the respondent's specific question. The respondents public form process starts with submitting an inquiry by using the public webform, shared email inbox, or by calling the UAS Support Center Analysts. Once the public user submits an inquiry, they will receive an automated system email receipt that includes inquiry reference number, created date, “tell us about yourself,” subject, and their inquiry/question. The public users can also use the inquiry status public page to check their inquiry status. For a public user to check the status of an inquiry, the system requires the user to have and enter the reference number and email address that is used to when creating the inquiry. Once the system confirms that the email address and reference number match with the inquiry record that's currently in the system, it will display inquiry status and created date of the inquiry.

Respondents: Anyone may use the publicly available form to submit an inquiry. The respondent may submit any number of inquiries.

Frequency: As needed.

Estimated Average Burden per Response: Less than two minutes for a typical inquiry.

Estimated Total Annual Burden: The majority of respondents submit a one-time inquiry. The annual burden per respondent per inquiry is two minutes. Estimate around 33,000 inquiries per year equating to 66,000 minutes of total burden to the public per year.

Issued in Washington, DC.
Jennifer Audette,
Manager, UAS Integration Office, Operational Programs, AUS-410.

[FR Doc. 2025-09947 Filed 5-30-25; 8:45 am]

BILLING CODE 4910-13-P